Title 3—

The President

Proclamation 7991 of March 24, 2006

To Implement Certain Provisions of the Dominican Republic-Central America-United States Free Trade Agreement With Respect to El Salvador

By the President of the United States of America

A Proclamation

1. On August 5, 2004, the United States entered into the Dominican Republic-Central America-United States Free Trade Agreement (Agreement) with Costa Rica, the Dominican Republic, El Salvador, Guatemala, Honduras, and Nicaragua. The Agreement was approved by the Congress in section 101(a) of the Dominican Republic-Central America-United States Free Trade Agreement Implementation Act (the “Act”) (Public Law 109-53, 119 Stat. 462) (19 U.S.C. 4001 note).

2. Section 201 of the Act authorizes the President to proclaim such modifications or continuation of any duty, such continuation of duty-free or excise treatment, or such additional duties, as the President determines to be necessary or appropriate to carry out or apply Article 3.3 and Annex 3.3 (including the schedule of United States duty reductions with respect to originating goods) of the Agreement.

3. Presidential Proclamation 7987 of February 28, 2006, modified the Harmonized Tariff Schedule of the United States (HTS) to provide for the preferential tariff treatment being accorded under the Agreement for certain goods of El Salvador.

4. Section 604 of the Trade Act of 1974 (the “1974 Act”) (19 U.S.C. 2483), as amended, authorizes the President to embody in the HTS the substance of relevant provisions of that Act, or other acts affecting import treatment, and of actions taken thereunder.

NOW, THEREFORE, I, GEORGE W. BUSH, President of the United States of America, acting under the authority vested in me by the Constitution and the laws of the United States of America, including but not limited to section 201 of the Act, section 301 of title 3, United States Code, and section 604 of the 1974 Act, do proclaim that:

(1) In order to provide for the preferential tariff treatment being accorded under the Agreement for certain sugar and sugar-containing goods of El Salvador and to provide a tariff-rate quota for such goods of El Salvador, the HTS is modified as set forth in the Annex to this proclamation.

(2) The amendments to the HTS made by paragraph (1) of this proclamation shall be effective with respect to goods entered, or withdrawn from warehouse for consumption, on or after the date of this proclamation.

(3) Any provisions of previous proclamations and Executive Orders that are inconsistent with the actions taken in this proclamation are superseded to the extent of such inconsistency.

IN WITNESS WHEREOF, I have hereunto set my hand this twenty-fourth day of March, in the year of our Lord two thousand six, and of the Independence of the United States of America the two hundred and thirtieth.

B

Billing code 3195-01-P

[FR Doc. 06-3103

Filed 3-28-06; 9:19 am]

Billing code 3190-01-C